DEPARTMENT OF TRANSPORTATION

Federal Aviation Administration

Fourth Meeting: RTCA Special Committee 227, Standards of Navigation Performance

AGENCY: Federal Aviation Administration (FAA), U.S. Department of Transportation (DOT).

ACTION: Meeting Notice of RTCA Special Committee 227, Standards of Navigation Performance.

SUMMARY: The FAA is issuing this notice to advise the public of the fourth meeting of the RTCA Special Committee 227, Standards of Navigation Performance.

DATES: The meeting will be held November 12-16, 2012 from 9:00 a.m.-5:00 p.m. Contact Dave Nakamura by telephone at 425-965-6896 or email dave.nakamura@boeing.com.

ADDRESSES: The meeting will be held at RTCA, 1150 18th Street NW., Suite 910, Washington, DC 20036.

FOR FURTHER INFORMATION CONTACT: The RTCA Secretariat, 1150 18th Street NW., Suite 910, Washington, DC 20036, or by telephone at (202) 330-0662 or (202) 833-9339, fax at (202) 833-9434, or Web site at http://www.rtca.org.

SUPPLEMENTARY INFORMATION: Pursuant to section 10(a)(2) of the Federal Advisory Committee Act (Pub. L. No. 92-463, 5 U.S.C., App.), notice is hereby given for a meeting of Special Committee 227. The agenda will include the following:

November 12-16, 2012

• Welcome/Introductions/Administrative Remarks

• Agenda Overview

• Review Minutes and Action Items

• Update/Approve Minutes

• Review of Planned Work Program for the Week

• Plenary Review/Acceptance of MASPS changes

• Technical Requirements Breakout Session (Every day as appropriate)

• Other Business

• Next Meeting Discussion

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on October 15, 2012.
Kathy Hitt,
Management Analyst, Business Operations Group, Federal Aviation Administration.

[FR Doc. 2012-26034 Filed 10-22-12; 8:45 am]

BILLING CODE 4910-13-P